DEPARTMENT OF HEALTH AND HUMAN SERVICES

National Institutes of Health

Proposed Collection; Comment Request; National Epidemiologic Survey on Alcohol and Related Conditions-III

SUMMARY: In compliance with the requirement of Section 3506(c)(2)(A) of the Paperwork Reduction Act of 1995, for opportunity for public comment on proposed data collection projects, the National Institute on Alcohol Abuse and Alcoholism (NIAAA), the National Institutes of Health (NIH) will publish periodic summaries of proposed projects to be submitted to the Office of Management and Budget (OMB) for review and approval.

Proposed Collection: Title: National Epidemiologic Survey on Alcohol and Related Conditions—III. Type of Information Collection Request: NEW. Need and Use of Information Collection: This study will determine the prevalence of alcohol use patterns and alcohol use disorders and their associated disabilities in a representative sample of adults in the United States population. The primary objectives of this study are to: (1) Understand the relationships between alcohol use patterns and alcohol use disorders and their related psychological and medical disabilities with a view toward designing more effective treatment, prevention and intervention programs; (2) identify subgroups at high risk for alcohol use disorders that are complicated by associated disabilities; (3) understand treatment utilization, unmet treatment need, barriers to treatment, health disparities, and economic costs of alcohol use disorders and their associated disabilities; and (4) identify environmental and genetic risk factors and their interactions that are associated with harmful consumption patterns and alcohol use disorders and their associated disabilities. Frequency of Response: On occasion. Affected Public: Individuals. Type of Respondents: Adults. Estimated Total Annual Burden:

Type of respondents | Estimated number of respondents | Estimated number of responses per respondent | Average burden hours per response | Estimated total annual burden hours requested
Adults | 44,900 | 1 | 1.0 | 44,900
Adults | 1,700 | 2 | 1.7 | 2,890
Total |  |  |  | 47,790

The annualized cost to respondents is estimated to be $936,684.00. There are no Capital Costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instrument, contact Dr. Bridget Grant, Chief, Laboratory of Epidemiology and Biometry, DICBR, NIAAA, NIH, 5635 Fishers Lane, Room 3077, Rockville, MD 20852, or call non-toll-free number 301- 443-7370 or e-mail your request, including your address, to: Bgrant@willco.niaaa.nih.gov.

Comment Due Date: Comments regarding this information collection are best assured of having their full effect if received within 60-days of the date of this publication.

Dated: October 7, 2010.
Keith Lamirande,
Acting Executive Officer, NIAAA, National Institutes of Health.

[FR Doc. 2010-26022 Filed 10-14-10; 8:45 am]

BILLING CODE 4140-01-P